FEDERAL COMMUNICATIONS COMMISSION

47 CFR Part 90

[PS Docket No. 06-229; DA 10-2342]

Requests for Waiver of Various Petitioners To Allow the Establishment of 700 MHz Interoperable Public Safety Wireless Broadband Networks

AGENCY: Federal Communications Commission.

ACTION: Final rule; waiver.

SUMMARY: In this order, on recommendation of the Emergency Response Interoperability Center (ERIC), the Public Safety and Homeland Security Bureau (Bureau) approved an initial set of technical requirements for public safety jurisdictions (Petitioners) that were granted conditional waivers by the Commission for early deployment in the 700 MHz public safety broadband spectrum. The order grants Petitioners that previously declined to file an interoperability showing a renewed opportunity to do so and to proceed with network deployment.

DATES: Effective December 10, 2010.

FOR FURTHER INFORMATION CONTACT: Jennifer Manner, Federal Communications Commission, Public Safety and Homeland Security Bureau, 445 12th Street, SW., Room 7-C761, Washington, DC 20554. Telephone: (202) 418-3619, e-mail: jennifer.manner@fcc.gov.

SUPPLEMENTARY INFORMATION: The initial set of technical interoperability requirements approved in the order creates a baseline technical interoperability framework for Petitioners' actual deployment of public safety broadband networks in advance of the Commission's adoption of final technical and operational rules for a nationwide interoperable public safety broadband network. The requirements approved in the order are essential to achieving nationwide interoperability among early-deployed public safety broadband networks. These requirements address core aspects of interoperability, such as roaming capabilities and system identifiers, that are crucial to ensuring that the users of disparate networks are capable of communicating seamlessly. Also included are requirements that early-deployed networks meet performance, coverage, and other requirements necessary to ensure that early-deployed networks achieve a baseline of operability sufficient to support interoperable communications.

Any Petitioner that previously filed an interoperability showing detailing its plans for achieving interoperability, or that in the future files, pursuant to the order, a showing that is subsequently acted on by the Bureau, may proceed with build-out and operation of its network upon submission to ERIC of a certification that its deployment will satisfy each of the requirements approved in the order.

Federal Communications Commission.
Jennifer A. Manner,
Deputy Chief, Public Safety and Homeland Security Bureau.

[FR Doc. 2011-811 Filed 1-13-11; 8:45 am]

BILLING CODE 6712-01-P